DEPARTMENT OF TRANSPORTATION

Federal Motor Carrier Safety Administration

[Docket No. FMCSA-2013-0165]

Qualification of Drivers; Exemption Applications; Vision

AGENCY: Federal Motor Carrier Safety Administration (FMCSA), DOT.

ACTION: Notice of applications for exemptions; request for comments.

SUMMARY: FMCSA announces receipt of applications from 25 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before September 5, 2013.

ADDRESSES: You may submit comments bearing the Federal Docket Management System (FDMS) Docket No. FMCSA-2013-0165 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 25 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Larry E. Blakely

Mr. Blakely, age 63, has had a retinal detachment in his right eye since 2011. The visual acuity in his right eye is hand motion, and in his left eye, 20/25. Following an examination in 2013, his ophthalmologist noted, “It would be my opinion that he would be safe on the road. I would feel very comfortable with him driving next to me and I think his level of visual performance should be adequate to operate a commercial vehicle.” Mr. Blakely reported that he has driven straight trucks for 15 years, accumulating 510,000, and tractor-trailer combinations for 20 years, accumulating 1.4 million miles. He holds a Class A Commercial Driver's License (CDL) from Georgia. His driving record for the last 3 years shows no crashes and no convictions for moving violations in a CMV.

William Bucaria, Jr.

Mr. Bucaria, 37, has a shattered retina in his left eye due to a traumatic incident during childhood. The visual acuity in his right eye is 20/20, and in his left eye, light perception. Following an examination in 2013, his optometrist noted, “My opinion is that Mr. Bucaria has sufficient vision to operate a commercial vehicle.” Mr. Bucaria reported that he has driven tractor-trailer combinations for 3 years, accumulating 288,000 miles. He holds a Class A CDL from Florida. His driving record for the last 3 years shows no crashes and 2 convictions for moving violations in a CMV. In the first incident, he failed to yield to an emergency vehicle. In the second incident, he exceeded the speed limit by 10 mph.

Kevan M. Burke

Mr. Burke, 60, has had a retinal detachment in his right eye since childhood. The visual acuity in his right eye is hand motion, and in his left eye, 20/20. Following an examination in 2013, his optometrist noted, “In my medical opinion Mr. Burke has sufficient vision to perform the driving tasks required to operate a commercial vehicle.” Mr. Burke reported that he has driven straight trucks for 40 years, accumulating 22,000 miles, and tractor-trailer combinations for 11 years, accumulating 2,200 miles. He holds a Class AM CDL from Pennsylvania. His driving record for the last 3 years shows no crashes and no convictions for moving violations in a CMV.

Thomas F. Caithamer

Mr. Caithamer, 48, has had a strabismic amblyopia in his right eye since childhood. The visual acuity in his right eye is 20/60, and in his left eye, 20/20. Following an examination in 2013, his optometrist noted, “Long standing amblyopia in the right eye (>40 yrs), which is stable and adaptable to allow the patient to perform his necessary operations for driving a commercial vehicle.” Mr. Caithamer reported that he has driven straight trucks for 26 years, accumulating 270,400 miles. He holds an operator's license from Illinois. His driving record for the last 3 years shows no crashes and no convictions for moving violations in a CMV.

Jaime M. Daigle

Mr. Daigle, 38, has had amblyopia in his right eye since birth. The visual acuity in his right eye is 20/100, and in his left eye, 20/20. Following an examination in 2013, his ophthalmologist noted, “It is in my medical opinion that Mr. Daigle has sufficient vision to perform the driving tasks required to operate a commercial vehicle.” Mr. Daigle reported that he has driven straight trucks for 13 years, accumulating 651,742 miles. He holds an operator's license from Massachusetts. His driving record for the last 3 years shows no crashes and no convictions for moving violations in a CMV.

James E. Goodman

Mr. Goodman, 44, has a corneal laceration in his left eye due to a traumatic incident in 2011. The visual acuity in his right eye is 20/20, and in his left eye, 20/400. Following an examination in 2012, his ophthalmologist noted, “In my medical opinion, the patient has sufficient vision to perform the driving tasks required to operate a commercial vehicle.” Mr. Goodman reported that he has driven tractor-trailer combinations for 25 years, accumulating 1.5 million miles. He holds an operator's license from Alabama. His driving record for the last 3 years shows no crashes and no convictions for moving violations in a CMV.

Britt A. Green

Mr. Green, 43, has had exotropia in his left eye since birth. The visual acuity in his right eye is 20/15, and in his left eye, 20/200. Following an examination in 2013, his optometrist noted, “Therefore, I certify that in my medical opinion, Mr. Green has sufficient vision to perform the driving tasks required to operate a commercial vehicle to take a practical, behind-the-wheel test.” Mr. Green reported that he has driven straight trucks for 28 years, accumulating 210,000 miles, and tractor-trailer combinations for 22 years, accumulating 110,000 miles. He holds a Class A CDL from North Dakota. His driving record for the last 3 years shows no crashes and no convictions for moving violations in a CMV.

Craig C. Harris

Mr. Harris, 41, has a macular scar in his right eye due to a traumatic incident during childhood. The visual acuity in his right eye is 20/125, and in his left eye, 20/20. Following an examination in 2012, his optometrist noted, “It is my opinion that Mr. Harris is able to drive with no limitations per my November 15, 2012 exam.” Mr. Harris reported that he has driven straight trucks for 21 years, accumulating 630,000 miles. He holds an operator's license from New Hampshire. His driving record for the last 3 years shows no crashes and no convictions for moving violations in a CMV.

Jesus J. Huerta

Mr. Huerta, 41, has optic nerve damage in his right eye due to a traumatic incident in 1995. The visual acuity in his right eye is no light perception, and in his left eye, 20/25. Following an examination in 2013, his optometrist noted, “Mr. Huerta has had a CDL license for a great many years after the loss of his right eye. I think his driving record speaks for itself with regards to having `sufficient vision to perform the driving tasks required to operate a commercial vehicle.' ” Mr. Huerta reported that he has driven straight trucks for 8 years, accumulating 108,000 miles. He holds a Class B CDL from Nevada. His driving record for the last 3 years shows no crashes and no convictions for moving violations in a CMV.

Arlene S. Kent

Ms. Kent, 52, has had refractive amblyopia in her right eye since childhood. The visual acuity in her right eye is 20/70, and in her left eye, 20/20. Following an examination in 2013, her optometrist noted, “Due to the fact that her condition only affects the central vision in her right eye, the other eye has 20/20 with correction, and her peripheral vision is excellent in both eyes, it is my medical opinion that she has sufficient vision to perform the driving tasks required to operate a commercial vehicle.” Ms. Kent reported that she has driven buses for 8 years, accumulating 16,000 miles. She holds a Class C CDL from New Hampshire. Her driving record for the last 3 years shows no crashes and no convictions for moving violations in a CMV.

Willie L. Murphy

Mr. Murphy, 52, has a prosthetic left eye due to a traumatic incident during childhood. The visual acuity in his right eye is 20/20, and in his left eye, no light perception. Following an examination in 2013, his optometrist noted, “In my medical opinion he has sufficient vision to perform the driving tasks associated with driving a commercial vehicle.” Mr. Murphy reported that he has driven straight trucks for 25 years, accumulating 1 million miles. He holds a Class B CDL from Indiana. His driving record for the last 3 years shows no crashes and no convictions for moving violations in a CMV.

Chad J. Nolan

Mr. Nolan, 42, has had a congenitally underdeveloped optic nerve in his right eye since birth. The visual acuity in his right eye is counting fingers, and in his left eye, 20/20. Following an examination in 2013, his optometrist noted, “I feel Mr. Nolan does have the visual ability to continue to safely operate a commercial vehicle.” Mr. Nolan reported that he has driven straight trucks for 4 years, accumulating 38,000 miles. He holds an operator's license from Ohio. His driving record for the last 3 years shows no crashes and no convictions for moving violations in a CMV.

Joseph J. Pudlik

Mr. Pudlik, 47, has had a refractive amblyopia in his left eye since birth. The visual acuity in his right eye is 20/20, and in his left eye, 20/400. Following an examination in 2013, his optometrist noted, “In my opinion vision is sufficient for driving commercial vehicle.” Mr. Pudlik reported that he has driven straight trucks for 24 years, accumulating 672,000 miles. He holds a Class BM CDL from Illinois. His driving record for the last 3 years shows no crashes and no convictions for moving violations in a CMV.

Freddie G. Reed

Mr. Reed, 60, has a corneal scar in his right eye due to a traumatic incident in 2006. The visual acuity in his right eye is 20/80, and in his left eye, 20/20. Following an examination in 2013, his ophthalmologist noted, “It is my medical opinion that Mr. Reed's vision is stable and sufficient with correction to perform driving tasks required to operate a commercial vehicle.” Mr. Reed reported that he has driven tractor-trailer combinations for 39 years, accumulating 1.4 million miles. He holds a Class A CDL from Mississippi. His driving record for the last 3 years shows no crashes and no convictions for moving violations in a CMV.

Elmer L. Roberson

Mr. Roberson, 64, has a prosthetic left eye due to a traumatic incident during childhood. The visual acuity in his right eye is 20/25, and in his left eye, no light perception. Following an examination in 2013, his optometrist noted, “This individual has driven almost 50 years with one eye and seems to have sufficient vision to perform the driving tasks required for a commercial vehicle.” Mr. Roberson reported that he has driven straight trucks for 3 years, accumulating 288,000 miles, and tractor-trailer combinations for 10 years, accumulating 1.6 million miles. He holds an operator's license from Oklahoma. His driving record for the last 3 years shows no crashes and no convictions for moving violations in a CMV.

Anthony R. Santomango

Mr. Santomango, 68, has had amblyopia in his right eye since childhood. The visual acuity in his right eye is 20/100, and in his left eye, 20/20. Following an examination in 2012, his optometrist noted, “Patient has adapted very well over his lifetime and can perform all driving task [sic] well, commercially or otherwise.” Mr. Santomango reported that he has driven straight trucks for 50 years, accumulating 100,000 miles, tractor-trailer combinations for 50 years, accumulating 1.5 million miles, and buses for 5 years, accumulating 5000 miles. He holds a Class A CDL from Maine. His driving record for the last 3 years shows no crashes and no convictions for moving violations in a CMV.

Daniel W. Schafer

Mr. Schafer, 29, has had optic atrophy in his right eye since birth. The visual acuity in his right eye is 5/200, and in his left eye, 20/15. Following an examination in 2013, his optometrist noted, “In summary, in my medical opinion, Dan meets the standards set forth in 49 CFR 391.41 and from an ophthalmic standpoint, appears capable of operating a commercial vehicle.” Mr. Schafer reported that he has driven straight trucks for 13 years, accumulating 455,000 miles. He holds an operator's license from Pennsylvania. His driving record for the last 3 years shows no crashes and no convictions for moving violations in a CMV.

Keith A. Sommers

Mr. Sommers, 46, has complete loss of vision in his right eye due to a traumatic incident during childhood. The visual acuity in his right eye is light perception, and in his left eye, 20/20. Following an examination in 2013, his ophthalmologist noted, “In my opinion, Mr. Sommers has sufficient vision to operate a commercial vehicle safely.” Mr. Sommers reported that he has driven straight trucks for 20 years, accumulating 5,000 miles, and tractor-trailer combinations for 10 years, accumulating 3,750 miles. He holds a chauffeur's license from Indiana. His driving record for the last 3 years shows no crashes and no convictions for moving violations in a CMV.

James A. Spell

Mr. Spell, 56, has a macular scar in his right eye due to a traumatic incident in 2009. The visual acuity in his right eye is 20/400, and in his left eye, 20/20. Following an examination in 2012, his ophthalmologist noted, “I have found no reason that should preclude Mr. Spell from obtaining a commercial driving license. He is safe to continue driving commercial motor vehicles.” Mr. Spell reported that he has driven tractor-trailer combinations for 20 years, accumulating 700,000 miles. He holds a Class A CDL from Maryland. His driving record for the last 3 years shows no crashes and no convictions for moving violations in a CMV.

Robert L. Spencer

Mr. Spencer, 58, has had amblyopia in his left eye since childhood. The visual acuity in his right eye is 20/20, and in his left eye, 20/200. Following an examination in 2013, his optometrist noted, “Patient has sufficient vision to perform driving tasks required to operate a commercial vehicle.” Mr. Spencer reported that he has driven straight trucks for 35 years, accumulating 875,000 miles. He holds an operator's license from Connecticut. His driving record for the last 3 years shows no crashes and no convictions for moving violations in a CMV.

Scott C. Star

Mr. Star, 43, has had an anisometropic amblyopia in his left eye since childhood. The visual acuity in his right eye is 20/20, and in his left eye, 20/200. Following an examination in 2013, his optometrist noted, “His best corrected vision was 20/20 right eye and 20/200 left eye . . . It is my impression that with correction, Mr. Star, is able to operate a commercial motor vehicle without problem.” Mr. Star reported that he has driven straight trucks for 20 years, accumulating 2.9 million miles. He holds an operator's license from New Jersey. His driving record for the last 3 years shows no crashes and no convictions for moving violations in a CMV.

Brian S. Stockwell

Mr. Stockwell, 52, has a retinal tear and cataract in his right eye due to a traumatic incident in 1997. The visual acuity in his right eye is 20/60, and in his left eye, 20/20. Following an examination in 2013, his ophthalmologist noted, “Brian Stockwell, a 51-year-old patient has requested a letter to determine if he qualifies for a visual exemption for a certain level Commercial Driver's Licence [sic] . . . Mr. Stockwell has had an unblemished driving record over the past 15 years, with the same level of vision, I feel it is reasonable to assume that he will continue to do so.” Mr. Stockwell reported that he has driven straight trucks for 15 years, accumulating 450,000 miles. He holds a Class BM CDL from Illinois. His driving record for the last 3 years shows no crashes and no convictions for moving violations in a CMV.

Jeffrey R. Swett

Mr. Swett, 39, has had open angle glaucoma in his right eye since 2010. The visual acuity in his right eye is 20/300, and in his left eye, 20/20. Following an examination in 2013, his ophthalmologist noted, “Mr. Swett has sufficient vision to perform driving tasks required to operate a commercial vehicle.” Mr. Swett reported that he has driven tractor-trailer combinations for 14 years, accumulating 2.7 million miles. He holds a Class A CDL from South Carolina. His driving record for the last 3 years shows no crashes and one conviction for a moving violation in a CMV; he was driving in an improper lane.

Brian C. Tate

Mr. Tate, 37, has had amblyopia in his right eye since birth. The visual acuity in his right eye is 20/100, and in his left eye, 20/25. Following an examination in 2013, his ophthalmologist noted, “It is of my professional opinion that he is safe to operate a commercial vehicle.” Mr. Tate reported that he has driven straight trucks for 15 years, accumulating 240,000 miles, and tractor-trailer combinations for 14 years, accumulating 1.1 million miles. He holds a Class A CDL from Virginia. His driving record for the last 3 years shows one crash, for which he was cited, and no convictions for moving violations in a CMV.

Aaron M. Vernon

Mr. Vernon, 55, has had a prosthetic right eye since 2009. The visual acuity in his right eye is no light perception, and in his left eye, 20/20. Following an examination in 2013, his ophthalmologist noted, “In my medical opinion, my patient has sufficient vision to perform the driving tasks required to operate a commercial vehicle.” Mr. Vernon reported that he has driven straight trucks for 28 years, accumulating 672,000 miles. He holds a Class B CDL from Ohio. His driving record for the last 3 years shows no crashes and no convictions for moving violations in a CMV.

Request for Comments

In accordance with 49 U.S.C. 31136(e) and 31315, FMCSA requests public comment from all interested persons on the exemption petitions described in this notice. The Agency will consider all comments received before the close of business September 5, 2013. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2013-0165 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period and may change this proposed rule based on your comments. FMCSA may issue a final rule at any time after the close of the comment period.

Viewing Comments and Documents

To view comments, as well as any documents mentioned in this preamble, To submit your comment online, go to http://www.regulations.gov and in the search box insert the docket number FMCSA-2013-0165 and click “Search.” Next, click “Open Docket Folder” and you will find all documents and comments related to the proposed rulemaking.

Issued on: July 30, 2013.
Larry W. Minor,
Associate Administrator for Policy.

[FR Doc. 2013-18918 Filed 8-5-13; 8:45 am]

BILLING CODE 4910-EX-P